DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. This meeting is open to the public.

DATES: Thursday, December 4, 2014, from 8:00 a.m. to 12:30 p.m.; Friday, December 5, 2014, from 8:00 a.m. to 1:00 p.m.

ADDRESSES: The Westin—Crystal City, 1800 Jefferson Davis Hwy, Arlington, VA 22202.

FOR FURTHER INFORMATION CONTACT: Mr. Robert Bowling or DACOWITS Staff at 4000 Defense Pentagon, Room 5A734, Washington, DC 20301-4000. Robert.d.bowling1.civ@mail.mil. Telephone (703) 697-2122. Fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS).

The purpose of the meeting is for the Committee to receive briefings and updates relating to their current work and to present and vote on the 2014 Annual Report. The Designated Federal Officer will give a status update on the Committee's requests for information. The Committee will receive briefings on the Military Health System Review, an update on the Women in the Services Review, and briefings from the Services on female attrition rates. Additionally, there will be a public comment period. The Committee will also present and vote on the 2014 Annual Report. Lastly, the Committee will present their 2015 study topics.

Pursuant to 41 CFR 102-3.140, and section 10(a)(3) of the Federal Advisory Committee Act of 1972, interested persons may submit a written statement for consideration by the Defense Advisory Committee on Women in the Services. Individuals submitting a written statement must submit their statement to the point of contact listed at the address in FOR FURTHER INFORMATION CONTACT no later than 5:00 p.m., Tuesday, December 2, 2014. If a written statement is not received by Tuesday, December 2, 2014, prior to the meeting, which is the subject of this notice, then it may not be provided to or considered by the Defense Advisory Committee on Women in the Services until its next open meeting. The Designated Federal Officer will review all timely submissions with the Defense Advisory Committee on Women in the Services Chair and ensure they are provided to the members of the Defense Advisory Committee on Women in the Services. If members of the public are interested in making an oral statement, a written statement should be submitted. After reviewing the written comments, the Chair and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Two minutes will be allotted to persons desiring to make an oral presentation. Oral presentations by members of the public will be permitted only on Thursday, December 4, 2014 from 12:00 p.m. to 12:30 p.m. in front of the full Committee. The number of oral presentations to be made will depend on the number of requests received from members of the public.

Pursuant to 5 U.S.C. 552b and 41 CFR 102-3.140 through 102-3.165, this meeting is open to the public, subject to the availability of space.

Meeting Agenda

Thursday, December 4, 2014, From 8:00 a.m. to 12:30 p.m.

—Welcome, Introductions, Announcements

—Briefing—Request for Information Update

—Briefing—Military Health System Review

—Briefing—Women in the Services Review Update

—Briefings—Female Attrition Rates

—Public Comment Period

Friday, December 5, 2014, From 8:00 a.m. to 1:00 p.m.

—Welcome and Announcements

—Committee Presents and Votes on Annual Report

—Committee Presents 2015 Study Topics

Dated: November 10, 2014.
Aaron Siegel,
Alternate OSD Federal Register Liaison Officer, Department of Defense.

[FR Doc. 2014-27047 Filed 11-14-14; 8:45 am]

BILLING CODE 5001-06-P